ENVIRONMENTAL PROTECTION AGENCY

40 CFR Part 300

[EPA-HQ-SFUND-2000-0003; FRL-9500-9]

National Oil and Hazardous Substances Pollution Contingency Plan; National Priorities List: Deletion of the Palmer Barge Line Superfund Site

AGENCY: Environmental Protection Agency.

ACTION: Direct final rule.

SUMMARY: The Environmental Protection Agency (EPA) Region 6 is publishing a direct final Notice of Deletion of the Palmer Barge Line (PBL) Superfund Site located in Port Arthur, Texas (Jefferson County), from the National Priorities List (NPL). The NPL, promulgated pursuant to Section 105 of the Comprehensive Environmental Response, Compensation, and Liability Act (CERCLA) of 1980, as amended, is an appendix of the National Oil and Hazardous Substances Pollution Contingency Plan (NCP). This direct final deletion is being published by EPA with the concurrence of the State of Texas, through the Texas Commission on Environmental Quality, because EPA has determined that all appropriate response actions at these identified parcels under CERCLA, other than operation, maintenance, and Five-Year Reviews, have been completed. However, this deletion does not preclude future actions under Superfund.

DATES: This direct final deletion is effective February 6, 2012 unless EPA receives adverse comments by January 6, 2012. If adverse comments are received, EPA will publish a timely withdrawal of the direct final deletion in the Federal Register informing the public that the deletion will not take effect.

ADDRESSES: Submit your comments, identified by Docket ID No. EPA-HQ-SFUND-2000-0003, by one of the following methods:

• http://www.regulations.gov: Follow Internet on-line instructions for submitting comments.

• Email: Rafael Casanova, casanova.rafael@epa.gov.

• Fax: (214) 665-6660.

• Mail: Rafael A. Casanova; U.S. Environmental Protection Agency, Region 6; Superfund Division (6SF-RA); 1445 Ross Avenue, Suite 1200; Dallas, Texas 75202-2733.

• Hand delivery: U.S. Environmental Protection Agency, Region 6; 1445 Ross Avenue, Suite 700; Dallas, Texas 75202-2733; Contact: Rafael A. Casanova (214) 665-7437. Such deliveries are only accepted during the Docket's normal hours of operation, and special arrangements should be made for deliveries of boxed information.

Instructions: Direct your comments to Docket ID No. EPA-HQ-AFUND-2000-0003. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at:

1. U.S. Environmental Protection Agency, Region 6; 1445 Ross Avenue, Suite 700; Dallas, Texas 75202-2733; Hours of operation: Monday thru Friday, 9 a.m. to 12 p.m. and 1 p.m. to 4 p.m. Contact: Rafael A. Casanova (214) 665-7437.

2. Port Arthur Public Library; 4615 9th Avenue; Port Arthur, Texas 77642-5799; Hours of operation: Monday thru Thursday, 9 a.m. to 9 p.m.; Friday, 9 a.m. to 6 p.m.; Saturday, 9 a.m. to 5 p.m.; and Sunday, 2 p.m. to 5 p.m.

FOR FURTHER INFORMATION CONTACT: Rafael A. Casanova, Remedial Project Manager; U.S. Environmental Protection Agency, Region 6; Superfund Division (6SF-RA); 1445 Ross Avenue, Suite 1200; Dallas, Texas 75202-2733; telephone number: (214) 665-7437; email: casanova.rafael@epa.gov.

SUPPLEMENTARY INFORMATION:

Table of Contents

I. Introduction

II. NPL Deletion Criteria

III. Deletion Procedures

IV. Basis for Site Deletion

V. Deletion Action

I. Introduction

EPA Region 6 is publishing this direct final Notice of Deletion for the Palmer Barge Line (PBL) Superfund Site (Site), from the National Priorities List (NPL). The NPL constitutes Appendix B of 40 CFR Part 300 which is the National Oil and Hazardous Substances Pollution Contingency Plan (NCP), which EPA promulgated pursuant to Section 105 of the Comprehensive Environmental Response, Compensation and Liability Act (CERCLA) of 1980, as amended. EPA maintains the NPL as the list of sites that appear to present a significant risk to public health, welfare, or the environment. Sites on the NPL may be the subject of remedial actions financed by the Hazardous Substance Superfund (Fund). As described in 300.425(e)(3) of the NCP, a site deleted from the NPL remains eligible for Fund-financed remedial action if future conditions warrant such actions.

Because EPA considers this action to be noncontroversial and routine, this action will be effective February 6, 2012 unless EPA receives adverse comments by January 6, 2012. Along with this direct final Notice of Deletion, EPA is co-publishing a Notice of Intent for Deletion in the “Proposed Rules” section of the Federal Register. If adverse comments are received within the 30-day public comment period on this deletion action, EPA will publish a timely withdrawal of this direct final Notice of Deletion before the effective date of the deletion and the deletion will not take effect. EPA will, as appropriate, prepare a response to comments and continue with the deletion process on the basis of the Notice of Intent for Deletion and the comments already received. There will be no additional opportunity to comment.

Section II of this document explains the criteria for deleting sites from the NPL. Section III discusses procedures that EPA is using for this action. Section IV discusses the PBL Superfund Site and demonstrates how it meets the deletion criteria. Section V discusses EPA's action to delete the Site from the NPL unless adverse comments are received during the public comment period.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the State, whether any of the following criteria have been met:

i. Responsible parties or other persons have implemented all appropriate response actions required;

ii. All appropriate Fund-financed response under CERCLA has been implemented, and no further response action by responsible parties is appropriate; or

iii. The remedial investigation has shown that the release poses no significant threat to public health or the environment and, therefore, the taking of remedial measures is not appropriate.

Pursuant to CERCLA section 121(c) and the NCP, EPA conducts five-year reviews to ensure the continued protectiveness of remedial actions where hazardous substances, pollutants, or contaminants remain at a site above levels that allow for unlimited use and unrestricted exposure. EPA conducts such five-year reviews even if a site is deleted from the NPL. EPA may initiate further action to ensure continued protectiveness at a deleted site if new information becomes available that indicates it is appropriate. Whenever there is a significant release from a site deleted from the NPL, the deleted site may be restored to the NPL without application of the hazard ranking system.

III. Deletion Procedures

The following procedures apply to all areas and media within the PBL Superfund Site:

1. EPA has consulted with the state of Texas prior to developing this direct final Notice of Deletion and the Notice of Intent for Deletion co-published in the “Proposed Rules” section of the Federal Register.

2. EPA has provided the state 30 working days for review of this notice and the parallel Notice of Intent for Deletion prior to their publication today, and the state, through the Texas Commission on Environmental Quality, has concurred on this deletion of the Site from the NPL.

3. Concurrently with the publication of this direct final Notice of Deletion, a notice of the availability of the parallel Notice of Intent for Deletion is being published in a major local newspaper, The Port Arthur News. The newspaper announces the 30-day public comment period concerning the Notice of Intent for Deletion of the Site from the NPL.

4. The EPA placed copies of documents supporting the deletion in the deletion docket and made these items available for public inspection and copying at the Site information repositories identified above.

5. If adverse comments are received within the 30-day public comment period on this deletion action, EPA will publish a timely notice of withdrawal of this direct final Notice of Deletion before its effective date and will prepare a response to comments and continue with the deletion process on the basis of the Notice of Intent for Deletion and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for further response actions, should future conditions warrant such actions.

IV. Basis for Site Deletion

The following information provides EPA's rationale for deleting the PBL Superfund Site from the NPL. A map of the Site, including the aerial extent of the Site proposed for deletion, is available in the deletion docket:

Site Location and History

The PBL Superfund Site (Site, CERCLIS ID—TXD068104561), a former barge-cleaning operation, encompasses approximately 17 acres and is located approximately 4.5 miles east-northeast of the City of Port Arthur on Old Yacht Club Road on Pleasure Islet. Pleasure Islet is a peninsula located approximately 0.5 miles southwest of the mouth of the Neches River. The Site is bordered by vacant property to the north, by Old Yacht Club Road to the west, by the State Marine of Port Arthur Superfund Site to the south, and Sabine Lake to the east.

Pleasure Islet is a manmade landmass consisting of dredge spoils generated during the construction and maintenance of the Sabine-Neches canal, also called the Intercoastal Waterway. The canal was constructed between 1898 and approximately 1920 in the vicinity of Sabine Lake and the Neches River, between the current Site location and the mainland. Between 1955 and 1957, a portion of the canal along the western side of Pleasure Islet was abandoned, and a new canal was cut along the eastern and southern sides of Pleasure Islet. Pleasure Islet was created when a land bridge was constructed across the abandoned portions of the canal, between the northern tip of Pleasure Island and the mainland. Vehicle access to the Site is limited to a single dirt road starting at the western Site border along Old Yacht Club Road.

The Site, along with the adjacent properties to the north and south, were used as a Municipal Landfill for the City of Port Arthur from 1956 to 1987. Although disposal at the landfill has long since ceased and the landfill contents have been covered with dredged sediments, the contents are still present on the Site in the subsurface soils.

In April 1982, John Palmer, President of Palmer Barge Line Inc. purchased approximately 17 acres from the City of Port Arthur, for the purpose of servicing and maintaining barges and marine vessels. The company ceased operations on the property in July 1997.

During operation, the typical activities performed at the Site included cleaning, degassing, maintenance, and inspection of barges and other marine equipment. Cleaning operations included the removal of sludge and other residual material by pressure steaming the vessel holds, engines and boilers. Engines were degreased and accumulations of sludges were removed. Degassing activities involved the removal of explosive vapors from vessel holds using nitrogen or boiler exhaust. Maintenance and inspection activities included the replacement and/or repair of valves, engine repairs, and line leak repairs followed by pressure tests. A flare was located on-site to burn excess gases and liquids produced during facility operations.

The surface water migration pathway was scored as part of the Hazard Ranking System Documentation Record. The EPA determined that the Site warranted further investigation to assess the nature and extent of the human health and environmental risks associated with the Site's previous barge-cleaning and inspection activities. The Site was proposed to be included on the NPL on May 11, 2000, (65 FR 30489) and made final on July 27, 2000, (65 FR 46096).

EPA conducted a Time Critical Removal Action in August 2000 that addressed the source materials stored on-site. Removal activities included waste removal, water treatment, oil/water separation, and sludge stabilization. Approximately 250,000 gallons of water were treated on-site; 500 cubic yards of sludge were stabilized; and 100,000 gallons of oil/styrene were separated and removed from the Site.

The investigations of the Site included the wastewater aboveground storage tank (AST), boiler house ASTs, open top slop tanks area, horizontal ASTs, twelve ASTs area, flare area, area east of flare in the center of the Site, ground water, and sediments of Sabine Lake.

Remedial Investigation and Feasibility Study

On September 30, 2002, the EPA issued an Administrative Order on Consent (AOC) to the potentially responsible parties (PRPs) to conduct a Remedial Investigation and Feasibility Study (RI/FS). The objectives of the RI/FS were to characterize the nature and extent of constituents of concern in soil, ground water, and surface water and sediments of Sabine Lake.

Constituents detected in soil samples included metals, semivolatile organic compounds (SVOCs), volatile organic compounds (VOCs), polychlorinated biphenyls (PCBs), and pesticides. Several samples containing above background concentrations of metals and SVOCs were from samples collected in soil that contained municipal waste, indicating that some constituents present may not be due to activities from the barge cleaning operation.

There is no current or anticipated future use of the shallow groundwater at the Site. The shallow groundwater at the Site is not considered a potential drinking water source. The shallow groundwater resulted from the dredging activities that formed the isle where the former PBL Superfund Site is located. Ground water samples collected from permanent ground water monitoring wells installed downgradient of the Site did not contain significant concentrations of these Site-related constituents above risk-based levels.

Constituents detected in the sediments of Sabine Lake included polycyclic aromatic hydrocarbons and metals. Many of the constituents found in the soil at the Site were not detected in sediment samples. Surface water samples contained only metals at low concentrations.

The human health risk assessment concluded that contaminants were present in Site soils and sediments that presented an unacceptable risk to on-site workers and off-site recreational anglers. The screening level ecological risk assessment concluded that site contaminants did not present an unacceptable risk to ecological receptors.

A total of four alternatives were developed for the Site during the Feasibility Study. The EPA chose excavation and off-site disposal as the Selected Remedy for the contaminated soils at the Site.

Selected Remedy

Based on the results of the Baseline Human Health Risk Assessment (BHHRA) and Screening Level Ecological Risk Assessment (SLERA), the EPA's Selected Remedy for the PBL Superfund Site, identified in the September 2005 Record of Decision, was “Excavation and Off-Site Disposal.” The Selected Remedy consisted of the following components:

• Excavation of approximately 1,204 cubic yards of the upper two feet of soil that exceed human health and ecological risk-based levels at each of the response areas.

• Confirmation sampling for constituents of potential concern at each of the response areas.

• Backfilling of excavated areas with clean soil.

• Off-site disposal of the excavated soils at a permitted disposal facility.

• Implementation of institutional controls to restrict future land use only for industrial purposes. The ICs shall be a restrictive covenant by the property owner recorded in the real property records of Jefferson County, Texas.

• Abandonment of five existing ground water monitoring wells.

• Wastewater AST sludge removal and decontamination and off-site disposal.

Remedial Action Objectives

The Remedial Action Objectives (RAOs) for the Site are based on the following:

• The reasonable anticipated land use scenario is based on the future redevelopment of the Site for industrial or commercial use, consistent with current Site use and surrounding land use.

• Potential ecological risks were considered for Site soils to prevent exposure to ecological receptors and prevent surface runoff of contaminants to Sabine Lake sediments.

The RAOs for the Site were:

• Prevent direct contact, ingestion, and inhalation of surface soils that exceed human health risk-based levels, based on an industrial worker scenario, for the chemicals of concern (COCs).

• Prevent off-site migration of COCs to Sabine Lake sediments that exceed human health and ecological risk-based levels for the COCs.

• Prevent exposure to Site soils that may pose a risk to ecological receptors.

Response Actions

On May 7, 2007, the EPA issued a Unilateral Administrative Order (UAO) for Remedial Design and Remedial Action to the PRPs. The UAO became effective on June 6, 2007. The Final Remedial Design/Remedial Action Work Plan was approved by the EPA on August 2, 2007. A total of 181 tons of contaminated soils were excavated and disposed at a permitted disposal facility. Each response area was then backfilled with clean soil. The Record of Decision (ROD) required the collection of confirmation samples, including analyses for the constituents of potential concern, at each of the response areas. Analytical results were used to determine horizontal limits of impacted media in each of the response areas. If constituents were found to contain concentrations in excess of the remediation goals (RG), step-out samples were analyzed for those constituents. Additional step-out samples were collected and analyzed when the step-out samples exceeded the RG. This process continued until sample results for perimeter samples were below the RG, indicating horizontal delineation had been achieved according to the requirements of the ROD. Additionally, approximately 78,340 pounds of oil were skimmed from the 10,000-barrel AST and recycled for fuel blending, and approximately 854,886 pounds of the remaining sludge material within the AST were incinerated. As required by the 2005 ROD, five permanent ground water monitoring wells were plugged and abandoned.

An institutional control (IC) in the form of Restrictive Covenant by the property owner, to the benefit of the State of Texas and the United States Government, was filed in the appropriate property records at the County Clerk's office in Jefferson County on March 25, 2011. This IC ensures that future site use remains commercial/industrial.

Cleanup Goals

The EPA chose a 1.0 × 10 ⁻⁵ target cleanup goal based on exposure to COCs that exceeded those levels at surface soils. The COCs and the selected soil cleanup goals achieved for the Human Health Risk Areas were:

• Aldrin—1.1 milligrams/kilogram (mg/kg).

• Benzo(a)pyrene—2.3 mg/kg.

• Benzo(a)anthracene—23.0 mg/kg.

• Dieldrin—1.2 mg/kg.

• Heptachlor Epoxide—2.1 mg/kg.

• Naphthalene—210.0 mg/kg.

• Pentachlorophenol—100.0 mg/kg.

• Lead—800.0 mg/kg.

The COCs and the selected soil cleanup goals achieved for ecological receptors were:

• 4,4′-DDD—0.0864 mg/kg.

• 4,4′-DDE—0.0864 mg/kg.

• 4,4′-DDT—0.0865 mg/kg.

• Butyl benzyl phthalate—5.37 mg/kg.

• Lead, total—497.0 mg/kg.

• Methoxychlor—0.09 mg/kg.

Operation and Maintenance

Operation and maintenance activities include monitoring effectiveness of institutional controls to ensure land use remains industrial/commercial.

Five-Year Reviews

Since the Selected Remedy would result in hazardous substances remaining on-site above levels that allow for unlimited use and unrestricted exposure, a Five-Year Review will be conducted no less often than every five years from initiation of the Remedial Action to ensure that the remedy is, or will continue to be, protective of human health and the environment. The first five-year Review will be conducted before September 4, 2012.

Community Involvement

Public participation activities have been satisfied as required in CERCLA Section 113(k), 42 U.S.C. 9613(k) and CERCLA Section 117, 42 U.S.C. 9617. Documents in the deletion docket which the EPA relied on for recommendation for the deletion from the NPL are available to the public in the information repositories, and a notice of availability of the Notice of Intent for Deletion has been published in The Port Arthur News to satisfy public participation procedures required by 40 CFR 300.425(e)(4).

Determination That the Criteria for Deletion Have Been Met

In accordance with 40 CFR 300.425(e), sites may be deleted from the NPL where no further response is appropriate. The EPA has determined that the criteria for deletion have been met. The EPA has implemented all appropriate response actions required and no further response action by responsible parties is appropriate. EPA received a letter, dated May 26, 2011, from the State of Texas, through the Texas Commission on Environmental Quality, concurring on the deletion of PBL Superfund Site from the NPL.

V. Deletion Action

The EPA, with concurrence of the State of Texas, through the Texas Commission on Environmental Quality, has determined that all appropriate response actions under CERCLA, other than operation, maintenance, monitoring, and Five-Year Reviews, have been completed. Therefore, EPA is deleting the PBL Superfund Site from the NPL.

Because EPA considers this action to be noncontroversial and routine, EPA is taking it without prior publication. This action will be effective February 6, 2012 unless EPA receives adverse comments by January 6, 2012. If adverse comments are received within the 30-day public comment period, EPA will publish a timely withdrawal of this direct final notice of deletion before the effective date of the deletion and it will not take effect. EPA will prepare a response to comments and continue with the deletion process on the basis of the notice of intent to delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: November 14, 2011.
Al Armendariz,
Regional Administrator, Region 6.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923; 3 CFR, 1987 Comp., p. 193.

Appendix B—[Amended]

2. Table 1 of Appendix B to Part 300 is amended by removing the entry “Palmer Barge Line, Port Arthur” under TX.

[FR Doc. 2011-31268 Filed 12-6-11; 8:45 am]

BILLING CODE 6560-50-P